ENVIRONMENTAL PROTECTION AGENCY

[EPA-HQ-SFUND-2005-0008; FRL-9935-39-OEI]

Information Collection Request Submitted to OMB for Review and Approval; Comment Request; Emergency Planning and Release Notification Requirements (Renewal)

AGENCY: Environmental Protection Agency (EPA).

ACTION: Notice.

SUMMARY: The Environmental Protection Agency has submitted an information collection request (ICR), “Emergency Planning and Release Notification Requirements (EPCRA Sections 302, 303, and 304) (Renewal)” (EPA ICR No. 1395.09, OMB Control No. 2050-0092) to the Office of Management and Budget (OMB) for review and approval in accordance with the Paperwork Reduction Act (44 U.S.C. 3501 et seq.). This is a proposed extension of the ICR, which is currently approved through December 31, 2015. Public comments were previously requested via the Federal Register (80 FR 35347) on June 19, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 13, 2015.

ADDRESSES: Submit your comments, referencing Docket ID Number EPA-HQ-SFUND-2005-0008, to (1) EPA online using www.regulations.gov (our preferred method), by email to superfund.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; email address: jacob.sicy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The authority for the emergency planning and emergency release notification requirements is Sections 302, 303, and 304 of the Emergency Planning and Community Right-to-Know Act (EPCRA) 1986 (42 U.S.C. 11002, 11003, and 11004). EPCRA established broad emergency planning and facility reporting requirements. Section 302 requires facilities to notify their state emergency response commission (SERC) and the local emergency planning committee (LEPC) that the facility is subject to emergency planning. This activity completed soon after the law was passed. Only new facilities that may become subject to these requirements must notify the SERC and the LEPC. Currently covered facilities are required to notify the LEPC of any changes that occur at the facility which would be relevant to emergency planning. Section 303 requires the LEPC to prepare local emergency response plans for their planning district using the information provided by facilities under Section 302. LEPC may request any information from facilities necessary to develop emergency response plans. Emergency response plans were developed within few months after the law was passed. LEPCs are required to review and update the plan at least annually or more frequently as changes occur in the community. Section 304 requires facilities to report to SERCs and LEPCs releases in excess of the reportable quantities listed for each extremely hazardous substance (EHS). This ICR also covers the notification and the written follow-up required under Section 304. The implementing regulations are codified in 40 CFR part 355. EPA does not expect any new facilities to come into compliance under Section 302 during this ICR period. This ICR only covers periodic reporting or updates of information submitted previously by existing facilities under Section 302.

Form Numbers: None.

Respondents/Affected Entities: Chemical manufacturers, non-chemical manufacturers, retailers, petroleum refineries, utilities.

Estimated Number of Respondents: 108,556.

Frequency of Response: On occasion.

Estimated Total Annual Hour Burden: 255,456 hours.

Estimated Total Annual Cost: $9,113,389, includes $68,820 annualized capital or O&M costs.

Changes in the Estimates: There is a decrease of 11,750 hours from the previous ICR due to the decrease in the number of release notifications to the National Response Center.

Courtney Kerwin,
Acting Director, Collection Strategies Division.

[FR Doc. 2015-26018 Filed 10-13-15; 8:45 am]

BILLING CODE 6560-50-P